DEPARTMENT OF ENERGY

Federal Energy Regulatory Commission

[Project No. 8546-022]

Howard and Mildred Carter, Allen Rae Carter; Notice of Application for Transfer of License and Soliciting Comments, Motions To Intervene, and Protests

On October 26, 2015, Karl Knuchel, attorney for the estate of Mildred Carter, (Howard Carter preceded Mildred Carter in death) (transferor) and Allen Rae Carter (transferee) filed an application for the transfer of the license of the Pine Creek Hydroelectric Project No. 8546 to Allen Rae Carter. Mildred Carter, now deceased, was the surviving licensee on the project. Pursuant to Mildred Carter's will, her estate seeks to transfer the project to her son, Allen Rae Carter. The project is located on Pine Creek in Park County, Montana.

Applicant Contact: For Applicants: Mr. Allen Rae Carter, 33 Eastep Lane, Livingston, MT 59047 and Mr. Karl Knuchel, P.C., 101 North E Street, P.O. Box 953, Livingston, MT 59047, Phone: 46-222-0135, email: karl@knuchelpc.com.

FERC Contact: Patricia W. Gillis, (202) 502-8735.

Deadline for filing comments, motions to intervene, and protests: 30 days from the date that the Commission issues this notice. The Commission strongly encourages electronic filing. Please file motions to intervene, comments, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-8546-022.

Dated: November 19, 2015.
Nathaniel J. Davis, Sr.
Deputy Secretary.

[FR Doc. 2015-29970 Filed 11-24-15; 8:45 am]

BILLING CODE 6717-01-P